DEPARTMENT OF TRANSPORTATION

Office of the Secretary

Applications of Dynamic Airways, LLC for Certificate Authority

AGENCY: Department of Transportation.

ACTION: Notice of Order to Show Cause (Order 2015-7-17); Dockets DOT-OST-2014-0069 and DOT-OST-2014-0071

SUMMARY: The Department of Transportation is directing all interested persons to show cause why it should not issue orders finding Dynamic Airways, LLC d/b/a Dynamic International Airways fit, willing, and able, and awarding it certificates of public convenience and necessity authorizing it to engage in interstate and foreign scheduled air transportation of persons, property, and mail.

DATES: Persons wishing to file objections should do so no later than August 13, 2015.

ADDRESSES: Objections and answers to objections should be filed in Dockets DOT-OST-2014-0069 and DOT-OST-2014-0071 and addressed to the Department of Transportation, Docket Operations, 1200 New Jersey Avenue SE., West Building Ground Floor, Room W12-140, Washington, DC and should be served upon the parties listed in Attachment A to the order.

FOR FURTHER INFORMATION CONTACT: Damon D. Walker, Air Carrier Fitness Division, (X-56, Office W86-469), U.S. Department of Transportation, 1200 New Jersey Avenue SE., Washington, DC 20590, (202) 366-9721.

Dated: July 30, 2015.
Susan L. Kurland,
Assistant Secretary for Aviation and International Affairs.

[FR Doc. 2015-19190 Filed 8-4-15; 8:45 am]

BILLING CODE P